NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register Notice with a 60-day comment period on this information collection on March 17, 2008. No comments were received.

1. Type of submission, new, revision, or extension: Revision.

2. The title of the information collection: 48 CFR 20, U.S. Nuclear Regulatory Commission Acquisition Regulation (NRCAR).

3. The form number if applicable: N/A.

4. How often the collection is required: On occasion; one time.

5. Who will be required or asked to report: Potential contractors.

6. An estimate of the number of annual responses: 3,837 responses (3,482 responses + 355 recordkeepers).

7. The estimated number of annual respondents: There are 355 potential contractors who could respond to NRC solicitations.

8. An estimate of the total number of hours needed annually to complete the requirement or request: There is both a reporting and recordkeeping burden associated with this collection. The NRC estimates there will be 3,482 report submissions amounting to 25,462 burden hours annually. The annual recordkeeping burden is estimated to be 633 hours for 65 respondents. This amounts to an overall annual burden of 26,095 hours.

9. An indication of whether Section 3507(d), Public Law 104-13 applies: N/A.

10. Abstract: The mandatory requirements of the NRCAR implement and supplement the government-wide Federal Acquisition Regulation (FAR), and ensure that the regulations governing the procurement of goods and services within the NRC satisfy the particular needs of the agency. Because of differing statutory authorities among Federal agencies, the FAR authorizes agencies to issue regulations to implement FAR policies and procedures internally and to include additional policies and procedures, solicitation provisions or contract clauses to satisfy the specific need of the agency.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by September 12, 2008. Comments received after this date will be considered if it is practical to do so, but assurance of consideration cannot be given to comments received after this date. Nathan J. Frey, Office of Information and Regulatory Affairs (3150-0169), NEOB-10202, Office of Management and Budget, Washington, DC 20503.

Comments can also be e-mailed to Nathan_J._Frey@omb.eop.gov or submitted by telephone at (202) 395-7345.

The NRC Clearance Officer is Russell Nichols, (301) 415-6874.

Dated at Rockville, Maryland, this 6th day of August, 2008.
For the Nuclear Regulatory Commission.
Gregory Trussell,
Acting NRC Clearance Officer, Office of Information Services.

[FR Doc. E8-18703 Filed 8-12-08; 8:45 am]

BILLING CODE 7590-01-P